DEPARTMENT OF COMMERCE

National Oceanic and Atmospheric Administration

50 CFR Part 622

[Docket No. 121004515-3608-02]

RIN 0648-XD307

Fisheries of the Caribbean, Gulf of Mexico, and South Atlantic; 2014 Limited Commercial and Recreational Fishing Seasons for Red Snapper in the Southern Atlantic States

AGENCY: National Marine Fisheries Service (NMFS), National Oceanic and Atmospheric Administration (NOAA), Commerce.

ACTION: Temporary rule; limited fishing seasons.

SUMMARY: NMFS has determined that limited commercial and recreational fishing seasons can occur in 2014. Therefore, NMFS announces the commercial and recreational annual catch limits (ACLs) for red snapper in the South Atlantic exclusive economic zone (EEZ) for the 2014 fishing year, the opening and closing dates of the 2014 recreational fishing season, and the opening date of the 2014 commercial fishing season through this temporary rule. The 2014 commercial ACL is 50,994 lb (23,130 kg), gutted weight, and the 2014 recreational ACL is 22,576 fish. Based on NMFS projections, the recreational fishing season in 2014 will be open for three consecutive weekends, starting July 11, 2014, and consist of 3 days the first two weekends (Friday, Saturday, Sunday) and 2 days the third weekend (Friday and Saturday). The commercial fishing season in 2014 will open on July 14, 2014, and NMFS will monitor commercial harvest in-season and close the commercial sector when the commercial ACL is reached or projected to be reached by filing an in-season closure notification with the Office of the Federal Register. This temporary rule is necessary to announce the limited fishing seasons for South Atlantic red snapper to provide socio-economic benefits to snapper-grouper fishermen and communities that utilize the red snapper resource while at the same time allowing red snapper to rebuild to sustainable levels.

DATES: The 2014 recreational fishing season will open at 12:01 a.m. on July 11, 2014, and close at 12:01 a.m. on July 14, 2014; open at 12:01 a.m. on July 18, 2014, and close at 12:01 a.m. on July 21, 2014; and open at 12:01 a.m. on July 25, 2014, and close at 12:01 a.m. on July 27, 2014. The 2014 commercial fishing season will open at 12:01 a.m. on July 14, 2014, and remain open until NMFS publishes an in-season closure notification in the Federal Register.

FOR FURTHER INFORMATION CONTACT: Catherine Hayslip, telephone: 727-824-5305, email: Catherine.Hayslip@noaa.gov.

SUPPLEMENTARY INFORMATION: The snapper-grouper fishery of the South Atlantic, which includes red snapper, is managed under the Fishery Management Plan for the Snapper-Grouper Fishery of the South Atlantic Region (FMP). The FMP was prepared by the Council and is implemented through regulations at 50 CFR part 622 under the authority of the Magnuson-Stevens Fishery Conservation and Management Act (Magnuson-Stevens Act).

On July 24, 2013, NMFS published a final rule to implement Amendment 28 to the FMP (78 FR 44461). In part, the final rule for Amendment 28 to the FMP established a process for setting commercial and recreational ACLs and determining whether limited commercial and recreational fishing seasons for red snapper in or from the South Atlantic EEZ can occur during a given fishing year. That final rule also implemented accountability measures (AMs) for South Atlantic red snapper, if limited fishing seasons are allowed in a fishing year, including setting a season length for the recreational sector and implementing an in-season closure when the commercial ACL is reached or projected to be reached. The final rule for Amendment 28 to the FMP also implemented a 75-lb (34-kg) commercial trip limit during the limited commercial fishing season and a 1-fish per person recreational bag limit during the limited recreational fishing season.

Red Snapper Harvest in 2014

NMFS used the formulas established in Amendment 28 to the FMP to determine if harvest of red snapper could occur in 2014. In accordance with 50 CFR 622.193(y), the total removals (landings plus dead discards) for 2013 were compared to the 2013 ABC to determine if the ABC was exceeded and thus whether the ACL for 2014 could be set greater than zero. In 2013, total removals equaled 72,881 fish. Because the 2013 total removals for red snapper are less than the 2013 ABC of 96,000 fish, NMFS has determined that the ACL for 2014 can be set greater than zero and that limited commercial and recreational fishing seasons may be established in 2014.

NMFS has determined that the 2014 total ACL for red snapper in the South Atlantic EEZ is 31,386 fish. Based on the current allocation ratio for red snapper (28.07 percent commercial and 71.93 percent recreational), the 2014 commercial ACL is 50,994 lb (23,130 kg), gutted weight, and the 2014 recreational ACL is 22,576 fish. For details regarding the calculation of the commercial and recreational ACLs and the recreational season length, please see SERO-LAPP-2014-06 “2014 South Atlantic Red Snapper Annual Catch Limits and Recreational Season Length Projection”, which can be found at http://sero.nmfs.noaa.gov/sustainable_fisheries/s_atl/sg/documents/pdfs/sa_rs_acl_season_projections.pdf.

NMFS has determined the length of the recreational fishing season for 2014. The recreational fishing season will be open for three weekends consisting of 3 days the first two weekends (Friday, Saturday, Sunday) and 2 days the third weekend (Friday and Saturday). The recreational fishing season for red snapper in the South Atlantic EEZ will open at 12:01 a.m. on July 11, 2014, and close at 12:01 a.m. on July 14, 2014; open at 12:01 a.m. on July 18, 2014, and close at 12:01 a.m. on July 21, 2014; and open at 12:01 a.m. on July 25, 2014, and close at 12:01 a.m. on July 27, 2014. After the recreational sector closes, both harvest and possession of red snapper under the bag limit are prohibited.

NMFS has determined that the 2014 commercial fishing season for red snapper in the South Atlantic EEZ will open at 12:01 a.m. on July 14, 2014, and NMFS will monitor commercial harvest in-season and close the commercial sector when the commercial ACL is reached or projected to be reached by filing an in-season closure notification with the Office of the Federal Register. After the commercial sector closes, both sale and purchase of red snapper in or from the South Atlantic EEZ are prohibited. When the recreational and commercial sectors are closed, all harvest and all possession of red snapper in the South Atlantic EEZ will be prohibited.

In accordance with 50 CFR 622.183(b)(5), if the Regional Administrator, Southeast Region, NMFS, (RA) determines tropical storm or hurricane conditions exist, or are projected to exist, in the South Atlantic, during the 2014 commercial or recreational fishing season, the RA may modify the opening and closing dates of the fishing season by filing a notification to that effect with the Office of the Federal Register, and announcing via NOAA Weather Radio and a Fishery Bulletin any change in the dates of the red snapper commercial or recreational fishing season.

Classification

The RA has determined this temporary rule is necessary for the conservation and management of the South Atlantic red snapper component of the South Atlantic snapper-grouper fishery and is consistent with the Magnuson-Stevens Act, the FMP, and other applicable laws.

This action is taken under 50 CFR 622.193(y) and is exempt from review under Executive Order 12866.

These measures are exempt from the procedures of the Regulatory Flexibility Act because the temporary rule is issued without opportunity for prior notice and comment.

Pursuant to 5 U.S.C. 553(b)(B), there is good cause to waive the requirements to provide prior notice and opportunity for public comment on this temporary rule. Such procedures are unnecessary because the AMs established by Amendment 28 to the FMP (78 FR 44461, July 24, 2013) and located at 50 CFR 622.193(y) have already been subject to notice and comment and authorize the AA to file a notification with the Office of the Federal Register to use the established process for determining whether limited commercial and recreational fishing seasons for red snapper in the South Atlantic EEZ can occur during a given fishing year and to set commercial and recreational ACLs for red snapper during limited fishing seasons. All that remains is to notify the public of the length of the recreational fishing season, the commercial fishing season start date, and the commercial and recreational ACLs for red snapper for the 2014 fishing year. Additionally, there is a need to immediately notify the public of the fishing seasons for red snapper for the 2014 fishing year, to allow time for commercial and recreational businesses to plan their seasons. For example, charter vessel and headboat operations book trips for clients in advance and, therefore need as much time as possible to adjust business plans to account for the recreational fishing season. The commercial sector also needs to be able to plan and purchase supplies for the commercial fishing season.

For the aforementioned reasons, the AA also finds good cause to waive the 30-day delay in the effectiveness of this action under 5 U.S.C. 553(d)(3).

Authority: 16 U.S.C. 1801 et seq.

Dated: May 30, 2014.
Emily H. Menashes,
Acting Director, Office of Sustainable Fisheries, National Marine Fisheries Service.

[FR Doc. 2014-13014 Filed 6-2-14; 4:15 pm]

BILLING CODE 3510-22-P